DEPARTMENT OF THE TREASURY

Departmental Offices; Proposed Collection; Comment Request

ACTION: Notice and request for comments.

SUMMARY: The Department of the Treasury, as part of its continuing effort to reduce paperwork burdens, invites the general public and other Federal agencies to comment on an information collection that is due for extension approval by the Office of Management and Budget. The Office of International Affairs within the Department of the Treasury is soliciting comments concerning the collection of data for the Annual Report of Foreign-Residents' Holdings of U.S. Securities, including Selected Money Market Instruments. The next such collection is to be conducted as of June 30, 2008.

DATES: Written comments should be received on or before March 7, 2008 to be assured of consideration.

ADDRESSES: Direct all written comments to Dwight Wolkow, International Portfolio Investment Data Systems, Department of the Treasury, Room 5422, 1500 Pennsylvania Avenue, NW., Washington, DC 20220. In view of possible delays in mail delivery, you may also wish to send a copy to Mr. Wolkow by e-mail (dwight.wolkow@do.treas.gov) or FAX (202-622-2009). Mr. Wolkow can also be reached by telephone (202-622-1276).

FOR FURTHER INFORMATION CONTACT: Copies of the proposed forms and instructions are unchanged from the previous survey that was conducted as of June 30, 2007, and are available on the Treasury International Capital (TIC) System Web page for “Forms SHL/SHLA & SHC/SHCA”, at: http://www.treas.gov/tic/forms-sh.shtml. Requests for additional information should be directed to Mr. Wolkow.

SUPPLEMENTARY INFORMATION: Title: Treasury Department Form SHLA/SHL, Foreign-Residents' Holdings of U.S. Securities, including Selected Money Market Instruments.

OMB Number: 1505-0123.

Abstract: These forms are used to conduct annual surveys of holdings by foreign-residents of U.S. securities for portfolio investment purposes. These data are used by the U.S. Government in the formulation of international and financial policies and for the computation of the U.S. balance of payments accounts and the U.S. international investment position. These data will also be used to provide information to the public and to meet international reporting commitments.

The benchmark survey (Form SHL) is conducted once every five years, and requires reporting by all significant U.S.-resident custodians and U.S.-resident security issuers. In non-benchmark years an annual survey (Form SHLA) is conducted, and requires reports primarily from the very largest U.S.-resident custodians and issuers. The data requested will be the same in Form SHL and, during the four succeeding years, in Form SHLA. The determination of who must report in the annual surveys (SHLA) will be based upon the securities data submitted during the previous benchmark survey. The data collected under the annual surveys (SHLA) will be used in conjunction with the results of the previous benchmark survey to compute economy-wide estimates for the non-benchmark years.

Current Actions: None. No changes in the forms or instructions will be made from the previous survey that was conducted as of June 30, 2007.

Type of Review: Extension of a currently approved collection.

Affected Public: Business/Financial Institutions.

Forms: TDF SHLA, Schedule 1 and Schedule 2 (1505-0123); TDF SHL, Schedule 1 and Schedule 2 (1505-0123).

Estimated Number of Respondents: An annual average (over five years) of 354, but this varies widely from about 1,475 in benchmark years (once every five years) to about 74 in each of the other years (four out of every five years).

Estimated Average Time per Respondent: An annual average (over five years) of about 89 hours, but this will vary widely from respondent to respondent. (a) In the year of a benchmark survey, which is conducted once every five years, it is estimated that exempt respondents will require an average of 16 hours; for custodians of securities, the estimate is a total of 321 hours on average, but this figure will vary widely for individual custodians; and for issuers of securities that have data to report and are not custodians, the estimate is 61 hours on average. (b) In a non-benchmark year, which occurs four years out of every five years: for the largest custodians of securities, the estimate is a total of 486 hours on average; and for the largest issuers of securities that have data to report and are not custodians, the estimate is 110 hours on average.

Estimated Total Annual Burden Hours: An annual average (over five years) of 31,500 hours.

Frequency of Response: Annual.

Request for Comments: Comments submitted in response to this notice will be summarized and/or included in the request for Office of Management and Budget approval. All comments will become a matter of public record. The public is invited to submit written comments concerning: (a) Whether the survey is necessary for the proper performance of the functions of the Office, including whether the information collected has practical uses; (b) the accuracy of the above burden estimates; (c) ways to enhance the quality, usefulness and clarity of the information to be collected; (d) ways to minimize the reporting and/or recordkeeping burdens on respondents, including the use of information technologies to automate the collection of the data; and (e) estimates of capital or start-up costs of operation, maintenance and purchases of services to provide information.

Dwight Wolkow,
Administrator, International Portfolio Investment Data Systems.

[FR Doc. E7-25649 Filed 1-4-08; 8:45 am]

BILLING CODE 4811-42-P